DEPARTMENT OF LABOR

Mine Safety and Health Administration

Petitions for Modification

The following parties have filed petitions to modify the application of existing safety standards under section 101(c) of the Federal Mine Safety and Health Act of 1977.

1. Hopkins County Coal, LLC

[Docket No. M-2000-027-C]

Hopkins County Coal, LLC, P.O. Box 711, Madisonville, Kentucky 42431 has filed a petition to modify the application of 30 CFR 75.503 (permissible electric face equipment; maintenance) to its Island Mine (I.D. No. 15-17515) located in Madisonville County, Kentucky. The petitioner proposes to use a spring-loaded device with specific fastening characteristics instead of a padlock to secure plugs and electrical type connectors to batteries, and to permissible mobile powered equipment, to prevent the battery plugs from accidentally separating from the receptacle during normal operation of battery equipment. The petitioner asserts that the proposed alternative method would provide at least the same measure of protection as the existing standard.

2. Elk Run Coal Company, Inc.

[Docket No. M-2000-028-C]

Elk Run Coal Company, Inc., P.O. Box 497, Sylvester, West Virginia 25193 has filed a petition to modify the application of 30 CFR 75.1002 (location of trolley wires, trolley feeder wires, high-voltage cables and transformers) to its White Knight Mine (I.D. No. 46-08055) located in Sylvester County, West Virginia. The petitioner proposes to use continuous mining machines with nominal voltage of the power circuits not to exceed 2,300 volts. The petitioner asserts that its alternative method would not result in a diminution of safety to the miners and would provide at least the same measure of protection as the existing standard.

3. B & B Anthracite Coal Company

[Docket No. M-2000-029-C]

B & B Anthracite Coal Company, 225 Main Street, Joliett, Pennsylvania 17981 has filed a petition to modify the application of 30 CFR 49.2(b) (availability of mine rescue teams) to its Rock Ridge Slope Mine (I.D. No. 36-07741) located in Schuylkill County, West Virginia. The petitioner requests a modification of the standard to permit the reduction of two mine rescue teams with five members and one alternate each, to two mine rescue teams of three members with one alternate for either team. The petitioner asserts that application of the existing standard would result in a diminution of safety to the miners and members of the rescue team and that the proposed alternative method would provide at least the same measure of protection as the existing standard.

4. West Ridge Resources, Inc.

[Docket No. M-2000-030-C]

West Ridge Resources, Inc., P.O. Box 902, Price, Utah 84501 has filed a petition to modify the application of 30 CFR 75.500(d) (permissible electric equipment)to its West Ridge Mine (I.D. No. 42-02233) located in Carbon County, Utah. The petitioner proposes to use the following nonpermissible low-voltage or battery powered electronic testing and diagnostic equipment inby the last open crosscut: lap top computers, oscilloscopes, vibration analysis machines, cable fault detectors, point temperature probes, infrared temperature devices and recorders, pressure and flow measurement devices, signal analyzer devices, ultrasonic thickness gauges, electronic component testers, electronic tachometers and battery operated drills. The petitioner has listed in this petition for modification specific procedures that would be followed when using this equipment. The petitioner asserts that the proposed alternative method would provide at least the same measure of protection as the existing standard.

5. Genwal Resources, Inc.

[Docket No. M-2000-031-C]

Genwal Resources, Inc., P.O. Box 1420, Huntington, Utah 84528 has filed a petition to modify the application of 30 CFR 75.500(d) (permissible electric equipment) to its Crandall Canyon Mine (I.D. No. 42-01715) located in Carbon County, Utah. The petitioner proposes to use the following nonpermissible low-voltage or battery powered electronic testing and diagnostic equipment inby the last open crosscut: lap top computers, oscilloscopes, vibration analysis machines, cable fault detectors, point temperature probes, infrared temperature devices and recorders, pressure and flow measurement devices, signal analyzer devices, ultrasonic thickness gauges, electronic component testers, electronic tachometers and battery operated drills. The petitioner has listed in this petition for modification specific procedures that would be followed when using this equipment. The petitioner asserts that the proposed alternative method would provide at least the same measure of protection as the existing standard.

6. Sidney Coal Company, Inc.

[Docket No. M-2000-032-C]

Sidney Coal Company, Inc., P.O. Box 299, Sidney, Kentucky 41564 has filed a petition to modify the application of 30 CFR 75.350 (air courses and belt haulage entries) to its Rockhouse Energy Mining Company, Mine No. 1 (I.D. No. 15-17651) located in Sidney County, Kentucky. The petitioner requests a modification of the standard to allow air coursed through belt haulage entries to be used to ventilate active working places. The petitioner proposes to install a low-level carbon monoxide detection system in all belt entries at certain locations as an early warning fire detection system. The petitioner also proposes to adhere to other conditions. The petitioner asserts that the proposed alternative method would provide at least the same measure of protection as the existing standard.

7. Sidney Coal Company, Inc.

[Docket No. M-2000-033-C]

Sidney Coal Company, Inc., P.O. Box 299, Sidney, Kentucky 41564 has filed a petition to modify the application of 30 CFR 75.1002 (location of trolley wires, trolley feeder wires, high-voltage cables and transformers) to its Rockhouse Energy Mining Company, Mine No. 1 (I.D. No. 15-17651) located in Sidney County, Kentucky. The petitioner proposes to use 4,160 volt longwall face equipment, and to submit proposed revisions for its approved part 48 training plans to the District Manager that would specify initial and refresher training. The petitioner has listed specific procedures in this petition for modification that would be followed when using the longwall equipment. The petitioner asserts that the proposed alternative method would provide at least the same measure of protection as the existing standard.

8. Sidney Coal Company, Inc.

[Docket No. M-2000-034-C]

Sidney Coal Company, Inc., P.O. Box 299, Sidney, Kentucky 41564 has filed a petition to modify the application of 30 CFR 75.1700 (oil and gas wells) to its Rockhouse Energy Mining Company, Mine No. 1 (I.D. No. 15-17651) located in Sidney County, Kentucky. The petitioner proposes to plug and mine through oil and gas wells using the specific procedures listed in this petition for modification, and notify the District Manager or designee prior to mining within 300 feet of a plugged oil and gas well. The petitioner asserts that the proposed alternative method would provide at least the same measure of protection as the existing standard and will not result in a diminution of safety to the miners.

9. West Ridge Resources, Inc.

[Docket No. M-2000-035-C]

West Ridge Resources, Inc., P.O. Box 902, Price, Utah 84501 has filed a petition to modify the application of 30 CFR 75.352 (return air courses) to its West Ridge Mine (I.D. No. 42-02233) located in Carbon County, Utah. The petitioner proposes to use the belt entry as a return air course during two-entry longwall development, and an intake during longwall extraction, to ensure adequate ventilation to dilute and render harmless any methane or other noxious gases that may accumulate. The petitioner asserts that the application of the existing standard would result in a diminution of safety and that the proposed alternative method would provide at least the same measure of protection as the existing standard.

10. West Ridge Resources, Inc.

[Docket No. M-2000-036-C]

West Ridge Resources, Inc., P.O. Box 902, Price, Utah 84501 has filed a petition to modify the application of 30 CFR 75.500(d) (permissible electric equipment)to its West Ridge Mine (I.D. No. 42-02233) located in Carbon County, Utah. The petitioner submitted this petition on March 22, 2000. This petition is a duplicate of a previously submitted petition. Therefore, the petitioner has rescinded this petition.

11. National Gypsum Company

[Docket No. M-2000-001-M]

National Gypsum Company, 2550 M Street, NW, Washington, DC 20037 has filed a petition to modify the application of 30 CFR 56.11001 (safe access) to its Kaufman-George Pit (I.D. No. 13-01615) located in Webster County, Iowa. The petitioner requests a modification of the standard to: permit the equipment operator to move between two parked pieces of mobile equipment provided that each piece of equipment is parked on level ground with the parking brakes engaged; the equipment operator has ensured that the pieces of equipment are no further than 36 inches apart; and the equipment operator uses the equipment's platforms, handholds, and foot supports to maintain three-point contact at all times when moving between the pieces of equipment. The petitioner asserts that application of the existing standard would result in a diminution of safety and that the proposed alternative method would provide equivalent or superior protection as the existing standard.

12. Original Sixteen to One Mine, Inc.

[Docket No. M-2000-002-M]

Original Sixteen to One Mine, Inc., P.O. Box 1621, Alleghany, California 95910 has filed a petition to modify the application of 30 CFR 57.11059 (respirable atmosphere for hoist operators underground) to its Sixteen to One Mine (I.D. No. 04-01299) located in Sierra County, California. The petitioner requests a modification of the standard to permit continued use of its “permissible combination self-contained breathing apparatus (SCBA) and pressure demand Type C supplied air respirator” (MSHA approved TC-13F-146 issued 4-13-88 and NIOSH approved). The petitioner states that in the interest of the health and safety of the hoist operator and miners, an exemption from the standard would allow the equipment to be used without modification, and continue to meet safety standards specific to the Sixteen to One Mine. The petitioner asserts that the proposed alternative method would provide at least the same measure of protection as the existing standard and that application of the existing standard would result in a diminution of safety to the miners.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before June 19, 2000. Copies of these petitions are available for inspection at that address.

Dated: May 8, 2000.
Carol J. Jones,
Director, Office of Standards, Regulations, and Variances.

[FR Doc. 00-12529 Filed 5-17-00; 8:45 am]

BILLING CODE 4510-43-P